DEPARTMENT OF THE TREASURY

Office of Foreign Assets Control

Unblocking of Specially Designated Nationals and Blocked Persons Resulting From the Termination of the National Emergency Declared in Executive Order 13348

AGENCY: Office of Foreign Assets Control, Treasury.

ACTION: Notice.

SUMMARY: The Treasury Department's Office of Foreign Assets Control (OFAC) is removing the names of sixteen individuals and thirty entities whose property and interests in property have been blocked pursuant to Executive Order 13348 (EO 13348) of July 22, 2004, “Blocking Property of Certain Persons and Prohibiting the Importation of Certain Goods from Liberia.” Additionally, OFAC is amending the designation of two individuals who will no longer be blocked under EO 13348, but will remain on the Specially Designated Nationals and Blocked Persons List (SDN List) pursuant to Executive Order 13413, “Blocking Property of Certain Persons Contributing to the Conflict in the Democratic Republic of the Congo.”

DATES: OFAC's actions described in this notice are effective as of November 12, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On November 12, 2015, the President signed Executive Order 13710, terminating the national emergency in Executive Order 13348 of July 22, 2004 with respect to the actions and policies of former Liberian President Charles Taylor and other persons. As such, the following individuals and entities are no longer subject to the blocking provisions of Section 1(a) of E.O. 13348 and are being removed from the Specially Designated Nationals List and Blocked Persons (SDN List) as of the effective date of Executive Order 13710:

1. BOUT, Sergei Anatolyievich (a.k.a. NIKOLAYEVICH BUT, Sergey; a.k.a. “BUT”; a.k.a. “BUTT”; a.k.a. “SERGEY”; a.k.a. “SERGI”; a.k.a. “SERGO”; a.k.a. “SERGUEI”), c/o AIR CESS, Islamabad, Pakistan; c/o AIR CESS, P.O. Box 7837, Sharjah, United Arab Emirates; c/o AIR ZORY, 54 G. M. Dimitrov Blvd., Sofia BG-1125, Bulgaria; Moscow, Russia; DOB 27 Aug 1961; POB Tajikistan; citizen Russia; alt. citizen Ukraine; National ID No. 76704 (Russia); alt. National ID No. CB039314 (Ukraine) (individual) [LIBERIA].

2. BRIGHT, Charles R.; DOB 29 Aug 1948; Former Minister of Finance of Liberia (individual) [LIBERIA].

3. CHICHAKLI, Richard Ammar (a.k.a. CHICHAKLI, Ammar M.), 225 Syracuse Place, Richardson, TX 75081, United States; 811 S. Central Expwy, Ste 210, Richardson, TX 75080, United States; DOB 29 Mar 1959; POB Syria; citizen United States; SSN 405-41-5342; alt. SSN 467-79-1065 (individual) [LIBERIA].

4. DARRAH, Kaddieyatu (a.k.a. DARA, Kaddieyatu; a.k.a. DARA, Kadiyatu; a.k.a. DARAH, Kadiyatu); Special Assistant to former President of Liberia Charles Taylor (individual) [LIBERIA].

5. DENISSENKO, Serguei (a.k.a. DENISENKO, Sergei; a.k.a. DENISSENKO, Sergei), c/o SAN AIR GENERAL TRADING FZE, P.O. Box 932-20C, Ajman, United Arab Emirates; c/o SAN AIR GENERAL TRADING LLC, 811 S. Central Expwy, Ste 210, Richardson, TX 75080, United States; c/o SAN AIR GENERAL TRADING FZE, P.O. Box 2190, Ajman, United Arab Emirates; DOB 1961; Passport 500144635 (Russia) (individual) [LIBERIA].

6. DUNBAR, Jenkins; DOB 10 Jan 1947; Former Minister of Lands, Mines, Energy of Liberia (individual) [LIBERIA].

7. JOBE, Baba; nationality The Gambia; Director, Gambia New Millenium Air Company; Member of Parliament of Gambia (individual) [LIBERIA].

8. KIIA TAI, Joseph Wong; Executive, Oriental Timber Company (individual) [LIBERIA].

9. KLEILAT, Ali; DOB 10 Jul 1970; POB Beirut, Lebanon; nationality Lebanon; Businessman (individual) [LIBERIA].

10. KOUWENHOVEN, Gus (a.k.a. KOUENHAVEN, Gus; a.k.a. KOUENHOVEN, Gus; a.k.a. KOUVENHOVEN, Gus), Villa # 1, Hotel Africa Virginia, Monrovia, Liberia; P.O. Box 1522, Monrovia, Liberia; DOB 15 Sep 1942; nationality Netherlands; President, Oriental Timber Company; Owner, Hotel Africa (individual) [LIBERIA].

11. NEAL, Juanita; DOB 09 May 1947; Former Deputy Minister of Finance of Liberia (individual) [LIBERIA].

12. SANKOH, Foday; Deceased (individual) [LIBERIA].

13. TAYLOR, Charles Ghankay (a.k.a. SOME, Jean-Paul; a.k.a. SONE, Jean-Paul; a.k.a. TAYLOR, Charles MacArthur); DOB 01 Sep 1947; Former President of Liberia (individual) [LIBERIA].

14. TAYLOR, Charles (Junior) (a.k.a. “CHUCKIE”); DOB 12 Feb 1978; Advisor and son of former President of Liberia Charles Taylor (individual) [LIBERIA].

15. UREY, Benoni; DOB 22 Jun 1957; Passport D-00148399 (Liberia); Former Commissioner of Maritime Affairs of Liberia; Diplomatic (individual) [LIBERIA].

16. YEATON, Benjamin (a.k.a. YEATEN, Benjamin); Passport D-00123299 (Liberia); Former Director, Special Security Services of Liberia; Diplomatic (individual) [LIBERIA].

17. ABIDJAN FREIGHT, Abidjan, Côte d' Ivoire [LIBERIA].

18. AIR CESS (a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS; a.k.a. PIETERSBURG AVIATION SERVICES AND SYSTEMS), Malabo, Equatorial Guinea; P.O. Box 7837, Sharjah, United Arab Emirates; P.O. Box 3962, Sharjah, United Arab Emirates; Islamabad, Pakistan; Entebbe, Uganda [LIBERIA].

19. AIR ZORY LTD. (a.k.a. AIR ZORI; a.k.a. AIR ZORI LTD.), 54 G.M. Dimitrov Blvd., Sofia BG-1125, Bulgaria; 6 Zenas Kanther Str, Nicosia 1065, Cyprus [LIBERIA].

20. AIRBAS TRANSPORTATION FZE (a.k.a. AIR BAS; a.k.a. AIR BASS; a.k.a. AIRBAS TRANSPORTATION INC.; a.k.a. AVIABAS), P.O. Box 8299, Sharjah, United Arab Emirates; 811 S. Central Expwy, Ste 210, Richardson, TX 75080, United States [LIBERIA].

21. ATC LTD., Gibraltar, United Kingdom [LIBERIA].

22. BUKAVU AVIATION TRANSPORT, Congo, Democratic Republic of the [LIBERIA].

23. BUSINESS AIR SERVICES, Congo, Democratic Republic of the [LIBERIA].

24. CENTRAFRICAN AIRLINES (a.k.a. CENTRAFRICAIN AIRLINES; a.k.a. CENTRAL AFRICAN AIR; a.k.a. CENTRAL AFRICAN AIR LINES; a.k.a. CENTRAL AFRICAN AIRWAYS), P.O. Box 2760, Bangui, Central African Republic; c/o Transavia Travel Agency, P.O. Box 3962, Sharjah, United Arab Emirates; P.O. Box 2190, Ajman, United Arab Emirates; Kigali, Rwanda; Ras-al-Khaimah, United Arab Emirates [LIBERIA].

25. CENTRAL AFRICA DEVELOPMENT FUND, 811 S. Central Expwy, Ste 210, Richardson, TX 75080, United States; P.O. Box 850431, Richardson, TX 75085, United States; US FEIN 75-2884986 [LIBERIA].

26. CET AVIATION ENTERPRISE, FZE, P.O. Box 932—C20, Ajman, United Arab Emirates; Equatorial Guinea [LIBERIA].

27. CHICHAKLI & ASSOCIATES PLLC (a.k.a. CHICHAKLI AND ASSOCIATES PLLC; a.k.a. CHICHAKLI HICKMANRIGGS & RIGGS; a.k.a. CHICHAKLI HICKMAN-RIGGS & RIGGS PLLC; a.k.a. CHICHAKLI HICKMANRIGGS AND RIGGS; a.k.a. CHICHAKLI HICKMAN-RIGGS AND RIGGS PLLC), 811 S. Central Expwy, Ste 210, Richardson, TX 75080, United States [LIBERIA].

28. CONTINUE PROFESSIONAL EDUCATION INC. (a.k.a. GULF MOTOR SALES INC.), 811 S. Central Expwy, Ste 210, Richardson, TX 75080, United States; US FEIN 08000068-09 [LIBERIA].

29. DAYTONA POOLS, INC., 225 Syracuse Place, Richardson, TX 75081, United States [LIBERIA].

30. DHH ENTERPRISES, INC., 811 S. Central Expwy, Ste 210, Richardson, TX 75080, United States [LIBERIA].

31. GAMBIA NEW MILLENIUM AIR COMPANY (a.k.a. GAMBIA MILLENIUM AIRLINE; a.k.a. GAMBIA NEW MILLENIUM AIR), State House, Banjul, The Gambia [LIBERIA].

32. IB OF AMERICA HOLDINGS INC., 811 S. Central Expwy, Ste 210, Richardson, TX 75080, United States [LIBERIA].

33. IRBIS AIR COMPANY, UL Furmanova 65, office 317, Almaty 48004, Kazakhstan [LIBERIA].

34. MOLDTRANSAVIA SRL, Aeroport, Chisinau MD-2026, Moldova [LIBERIA].

35. NORDIC LTD. (a.k.a. NORDIK LIMITED EOOD), 9 Frederick J. Curie Street, Sofia 1113, Bulgaria [LIBERIA].

36. ODESSA AIR (f.k.a. OKAPI AIR), Entebbe, Uganda [LIBERIA].

37. ORIENT STAR CORPORATION (a.k.a. ORIENT STAR AVIATION), 811 S. Central Expwy., Ste 210, Richardson, TX 75080, United States [LIBERIA].

38. RICHARD A. CHICHAKLI PC, P.O. Box 850432, Richardson, TX 75085, United States; 811 S. Central Expwy., Ste 210, Richardson, TX 75080, United States [LIBERIA].

39. ROCKMAN LTD. (a.k.a. ROKMAN EOOD), 9 Frederick J. Curie Street, Sofia 1113, Bulgaria [LIBERIA].

40. SAN AIR GENERAL TRADING FZE (a.k.a. SAN AIR GENERAL TRADING LLC), P.O. Box 932-20C, Ajman, United Arab Emirates; P.O. Box 2190, Ajman, United Arab Emirates; 811 S. Central Expwy., Ste 210, Richardson, TX 75080, United States [LIBERIA].

41. SANTA CRUZ IMPERIAL AIRLINES, P.O. Box 60315, Dubai, United Arab Emirates; Sharjah, United Arab Emirates [LIBERIA].

42. SOUTHBOUND LTD., P.O. Box 398, Suite 52 and 553 Monrovia House, 26 Main Street, Gibraltar, United Kingdom [LIBERIA].

43. TRANS AVIATION GLOBAL GROUP INC., 811 S. Central Expwy, Ste 210, Richardson, TX 75080, United States [LIBERIA].

44. TRANSAVIA NETWORK (a.k.a. NV TRANS AVIATION NETWORK GROUP; a.k.a. TAN GROUP; a.k.a. TRANS AVIATION; a.k.a. TRANSAVIA TRAVEL AGENCY; a.k.a. TRANSAVIA TRAVEL CARGO), 1304 Boorj Building, Bank Street, Sharjah, United Arab Emirates; P.O. Box 3962, Sharjah, United Arab Emirates; P.O. Box 2190, Ajman, United Arab Emirates; Ostende Airport, Belgium [LIBERIA].

45. VIAL COMPANY, DE, United States [LIBERIA].

46. WESTBOUND LTD, P.O. Box 399, 26 Main Street, Gibraltar, United Kingdom [LIBERIA].

The following individuals will no longer be listed pursuant to EO 13348, but will remain listed on the SDN List pursuant to Executive Order 13413 of October 27, 2006, “Blocking Property of Certain Persons Contributing to the Conflict in the Democratic Republic of the Congo,” as amended by Executive Order 13671 of July 8, 2014, “Taking Additional Steps to Address the National Emergency With Respect to the Conflict in the Democratic Republic of the Congo.” These individuals continue to be subject to blocking and all other applicable provisions related to their continuing designations.

1. BOUT, Viktor Anatolijevitch (a.k.a. SERGITOV, Vitali; a.k.a. “BONT”; a.k.a. “BOUTOV”; a.k.a. “BUTT”; a.k.a. “BUTTE”); DOB 13 Jan 1967; alt. DOB 13 Jan 1970; POB Dushanbe, Tajikistan; Dealer and transporter of weapons and minerals; Owner, Great Lakes Business Company and Compagnie Aerienne des Grands (individual) [DRCONGO].

2. RUPRAH, Sanjivan Singh (a.k.a. “NASR, Samir M.”); DOB 09 Aug 1966; POB Kisumu, Kenya; nationality Kenya; Passport D-001829-00 (Liberia); alt. Passport 790015037 (United Kingdom) issued 10 Jul 1998 expires 10 Jul 2008; Businessman; Former Deputy Commissioner, Bureau of Maritime Affairs of Liberia (individual) [DRCONGO].

Dated: December 1, 2015.
John E. Smith,
Acting Director, Office of Foreign Assets Control.

[FR Doc. 2015-30687 Filed 12-3-15; 8:45 am]

BILLING CODE 4810-AL-P